DEPARTMENT OF EDUCATION

President's Board of Advisors on Historically Black Colleges and Universities

AGENCY: President's Board of Advisors on Historically Black Colleges and Universities, Office of Undersecretary, Department of Education.

ACTION: Announcement of an open meeting.

SUMMARY: This notice sets forth the agenda for the May 24, 2022, meeting of the President's Board of Advisors on Historically Black Colleges and Universities (Board) and provides information to members of the public about how to submit written comments and request time to make oral comments at the meeting. Notice of the meeting is required by the Federal Advisory Committee Act and is intended to notify the public of its opportunity to attend.

DATES: The Board meeting will be held on May 24, 2022, from 11:00 a.m. to 5:00 p.m. E.D.T. in the Barnard Auditorium at the U.S. Department of Education, located at 400 Maryland Avenue SW, Washington, DC 20202.

FOR FURTHER INFORMATION CONTACT: Sedika Franklin, Associate Director/Designated Federal Official, U.S. Department of Education, White House Initiative on Historically Black Colleges and Universities, 400 Maryland Avenue SW, Washington, DC 20204; telephone: (202) 453-5634 or (202) 453-5630, or email sedika.franklin@ed.gov.

SUPPLEMENTARY INFORMATION: PBA's Statutory Authority and Function: The Board is established by 20 U.S.C. 1063e (the HBCUs Partners Act) and Executive Order 14041 (September 3, 2021) and is continued by Executive Order 14048. The Board is governed by the provisions of FACA, which sets forth standards for the formation and use of advisory committees. The purpose of the Board is to advise the President, through the White House Initiative on Historically Black Colleges and Universities, on all matters pertaining to strengthening the educational capacity of Historically Black Colleges and Universities (HBCUs).

The Board shall advise the President in the following areas: (i) Improving the identity, visibility, and distinctive capabilities and overall competitiveness of HBCUs; (ii) engaging the philanthropic, business, government, military, homeland-security, and education communities in a national dialogue regarding new HBCU programs and initiatives; (iii) improving the ability of HBCUs to remain fiscally secure institutions that can assist the Nation in in achieving its educational goals and in advancing the interests of all Americans; (iv) elevating the public awareness of, and fostering appreciation of, HBCUs; (v) encouraging public-private investments in HBCUs; and improving government-wide strategic planning related to HBCU competitiveness to align Federal resources and provide the context for decisions about HBCU partnerships, investments, performance goals, priorities, human capital development, and budget planning.

Meeting Agenda: The meeting agenda will include roll call; welcoming remarks; a review of the Board's mission and function; a discussion of the Board's strategic priorities; and group discussion. The public comment period will begin immediately following the conclusion of such discussions. There will be an allotted time for public comment.

Access to the Meeting: An RSVP is required in order to attend the meeting virtually. Submit a reservation by email to the whirsvps@ed.gov mailbox. RSVPs must be received by end of business on May 21, 2022. Include in the subject line of the email request “Meeting RSVP.” The email must include the name(s), title, organization/affiliation (if applicable), mailing address, email address, telephone number, of the person(s) requesting to attend.

Submission of requests to make an oral comment: There are two methods the public may use to provide an oral comment pertaining to the work of the Board at the May 24, 2022 meeting.

Method One: Submit a request by email to the whirsvps@ed.gov mailbox. Please do not send materials directly to Board members. Requests must be sent by May 21, 2022. Include in the subject line of the email request “Oral Comment Request.” The email must include the name(s), title, organization/affiliation, mailing address, email address, telephone number, of the person(s) requesting to speak, and a brief summary (not to exceed one page) of the principal points to be made. All individuals submitting an advance request in accordance with this notice will be added to the public comment request list for oral comment.

Method Two: Register in-person at the meeting location on May 24, 2022. The requestor must provide his or her name, title, organization/affiliation, mailing address, email address, and telephone number. Individuals will be placed on the public comment request list and will be selected on a first-come, first-served basis. If selected, each commenter will have an opportunity to speak for three minutes.

All oral comments made will become part of the official record of the Board. Similarly, written materials distributed during oral presentations will become part of the official record of the meeting.

Submission of written public comments: The Board invites written comments, which will be read during the public comment segment of the agenda. Comments must be submitted by May 21, 2022 to the whirsvps@ed.gov mailbox and include in the subject line “Written Comments: Public Comment.” The email must include the name(s), title, organization/affiliation, mailing address, email address, and telephone number, of the person(s) making the comment. Comments should be submitted as a Microsoft Word document or in a medium compatible with Microsoft Word (not a PDF file) that is attached to an electronic mail message (email) or provided in the body of an email message. Please do not send material directly to the Board members.

Access to Records of the Meeting: The Department will post the official report of the meeting on the Board website 90 days after the meeting. Pursuant to FACA, the public may also inspect the materials at 400 Maryland Avenue SW, Washington, DC, by emailing oswhi-hbcu@ed.gov or by calling (202) 453-5634 to schedule an appointment.

Reasonable Accommodations: The meeting site is accessible to individuals with disabilities. If you will need an auxiliary aid or service to participate in the meeting (e.g., interpreting service, assistive listening device, or materials in an alternate format), notify the contact person listed in this notice at least one week before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: HBCUs Partners Act, Presidential Executive Order 14041, continued by Executive Order 14048.

Donna M. Harris-Aikens,
Deputy Chief of Staff for Strategy, Office of the Secretary.

[FR Doc. 2022-09919 Filed 5-6-22; 8:45 am]

BILLING CODE 4000-01-P